DEPARTMENT OF STATE

[Public Notice 3970]

Bureau of Consular Affairs; Designation of Certain Posts for Special Fee Payment Procedures

This public notice adds additional posts, located in Asia, the Near East, and South America to those already designated by the Deputy Assistant Secretary for Visa Services for two purposes related to the payment of immigrant visa fees. The first purpose relates to the revised procedure for payment of the fee for the processing of the application for an immigrant visa set forth in the Federal Register on September 8, 2000, (65 FR 54598). The effective date of that notice was stayed until January 1, 2001 by a public notice in the Federal Register of December 14, 2000, (65 FR 78243).

The second purpose is to identify the posts for which a fee pursuant to Item 61 of the Schedule of Fees for Consular Services (22 CFR 22.1) will be assessed for advance review of and assistance with the Affidavit of Support that is required in certain immigrant visa cases. Notice of this fee requirement was added to the visa regulation pertaining to the Affidavit of Support requirement in 22 CFR 40.41(b), and was effective January 1, 2001.

The Department will publish further public notices as additional designations are made.

The Deputy Assistant Secretary for Visa Services has designated the Foreign Service posts in the following cities for participation in the new immigrant visa application processing fee payment system and the fee for review of and assistance with the Affidavit of Support required under section 213A of the Immigration and Nationality Act.

The effective date of this notice is May 1, 2002.

Abidjan, Cote D'Ivoire | Abu Dhabi, United Arab Emirates.
Accra, Ghana | Addis Ababa, Ethiopia.
Algiers, Algeria | Amman, Jordan.
Ankara, Turkey | Antananarivo, Madagascar.
Asmara, Eritrea | Auckland, New Zealand.
Bogota, Colombia | Cairo, Egypt.
Caracas, Venezuela | Casablanca, Morocco.
Chennai, India | Ciudad Juarez, Mexico.
Colombo, Sri Lanka | Cotonou, Benin.
Dakar, Senegal | Damascus, Syria.
Dar-es-Salaam, Tanzania | Dhaka, Bangladesh.
Djibouti, Djibouti | Doha, Qatar.
Freetown, Sierra Leone | Georgetown, Guyana.
Guangzhou, China | Harare, Zimbabwe.
Ho Chi Minh City, Vietnam | Hong Kong.
Islamabad, Pakistan | Jakarta, Indonesia.
Jerusalem | Johannesburg, South Africa.
Kathmandu, Nepal | Kinshasa, Democratic Republic of the Congo.
Kuala Lumpur, Malaysia | Kuwait, Kuwait.
Lagos, Nigeria | Libreville, Gabon.
Lilongwe, Malawi | Lome, Togo.
Lusaka, Zambia | Manama, Bahrain.
Manila, Philippines | Monrovia, Liberia.
Montevideo, Uruguay | Montreal, Canada.
Mumbai, India | Muscat, Oman.
Naha, Japan | Nairobi, Kenya.
New Delhi, India | Niamey, Niger.
Nicosia, Cyprus | Ouagadougou, Burkina Faso.
Perth, Australia | Port-au-Prince, Haiti.
Port Moresby, Papua New Guinea | Praia, Cape Verde Islands.
Rangoon, Burma | Riyadh, Saudi Arabia.
Sanaa, Yemen | Santo Domingo, Dominican Republic.
Seoul, Korea | Singapore, Singapore.
Suva, Fiji | Sydney, Australia.
Taipei, Taiwan | Tel Aviv, Israel.
Tirana, Albania | Tokyo, Japan.
Tunis, Tunisia | Valletta, Malta.
Vientiane, Laos | Yaounde, Cameroon.

Dated: March 26, 2002.
Wayne G. Griffith,
Deputy Assistant Secretary for Visa Services, Department of State.

[FR Doc. 02-8337 Filed 4-4-02; 8:45 am]

BILLING CODE 4710-06-P